DEPARTMENT OF JUSTICE

Antitrust Division

Notice Pursuant to the National Cooperative Research and Production Act of 1993—Telemanagement Forum

Notice is hereby given that, on January 27, 2021, pursuant to Section 6(a) of the National Cooperative Research and Production Act of 1993, 15 U.S.C. 4301 et seq. (“the Act”), TM Forum, A New Jersey Non Profit Corporation (“The Forum”) filed written notifications simultaneously with the Attorney General and the Federal Trade Commission disclosing changes in its membership. The notifications were filed for the purpose of extending the Act's provisions limiting the recovery of antitrust plaintiffs to actual damages under specified circumstances.

Specifically, the following entities have become members of the Forum: Kevin Scaggs, Troy, IL; Atricom Systems Ltd, Hod HaSharon, ISRAEL; Tatic Solucoes Em Informatica Ltda, Belo Horizonte, BRAZIL; VizuaMatix Private Limited, Nawala Rajagiriya, SRI LANKA; Info-M Szamitastechnikai Kereskedelmi es Szolgaltato Zrt, Budapest, HUNGARY; Altifio, London, UNITED KINGDOM; University of Edinburgh, Edinburgh, UNITED KINGDOM; Billity AS, Foldroyhamn, NORWAY; SuccessFul Telecom Technology Co., Ltd., Shanghai, CHINA; Inetum, Saint-Ouen, FRANCE; IST—International Software Techniques S.A., Maroussi, GREECE; JT (Jersey) Ltd, St Helier, JERSEY; Tecnovos Technologies LLP, Ulsoor, INDIA; Accedian Networks, Saint-Laurent, CANADA; WeCity, Utrecht, NETHERLANDS; Hydro One Telecom, Etobicoke, CANADA; Palladin Technologies, Atlanta, GA; Hargray Communications Group, Inc., Hilton Head Island, SC; iQmetrix, Vancouver, CANADA; 2Degrees Mobile Ltd, Auckland, NEW ZEALAND; U Mobile Sdn. Bhd., Kuala Lumpur, MALAYSIA; L&T Technology Services Limited, Gujarat, INDIA; Zain Group—Mobile Telecommunications Company K.S.C.P, Safat, KUWAIT; Avanseus Holdings Pte Ltd., Bugis Junction, SINGAPORE; Mobile Telecommunications Company Saudi Arabia (Zain KSA), Riyadh, SAUDI ARABIA; CyberMAK Information Systems W.L.L., Kuwait City, KUWAIT.

Also, the following members have changed their names: Agile Network Systems Limited to ANS Digital Transformation Limited, London, UNITED KINGDOM; Bytes Systems Integration a division of Altron TMT (Pty) Ltd. to Altron Systems Integration, Cape Town, SOUTH AFRICA; Sigma Systems to Hansen Technologies, Toronto, CANADA; ARRIS Solutions, Inc. to CommScope, Suwanee, GA.

In addition, the following parties have withdrawn as parties to this venture: Adad, Sophia Antipolis, FRANCE; Beijing Qcubic Tech Co. Ltd, Beijing, CHINA; BitX Limited, Georgetown, GUYANA; Cartesian, Overland Park, KS; Centina Systems, Inc., Plano, TX; Cloudlite, Moscow, RUSSIA; Digital Afrique Telecom, Abidjan, CÔTE D'IVOIRE; Empirix Inc., Billerica, MA; Enterprise Ireland, Dublin 3, IRELAND; Equatorial Telecom, São Luís, BRAZIL; Equinix, Inc, Tampa, FL; Expedite Commerce, Plano, TX; Galileo Software, Cork, IRELAND; Inducta d.o.o., Zagreb, CROATIA; Mad Enterprise, Pornic, FRANCE; Maestracom, Nice Alpes Maritimes, FRANCE; Modern Telecom Systems IT, Cairo, EGYPT; Neustar, Sterling, VA; Progresif Cellular Sdn Bhd, Bandar Seri Begawan, BRUNEI DARUSSALAM; ProximaX, Singapore, SINGAPORE; Reinfer Ltd, London, UNITED KINGDOM; Smartrek, Wabern, SWITZERLAND; T&BS SAS, Paris, FRANCE; Unico Computer Systems, Melbourne, AUSTRALIA; VertiGIS GmbH, Wels, AUSTRIA; VIVA—Kuwait Telecommunications Company, Salmiya, KUWAIT; VOO SA, Liège, BELGIUM.

No other changes have been made in either the membership or planned activity of the group research project. Membership in this group research project remains open and TM Forum intends to file additional written notifications disclosing all changes in membership.

On October 21, 1988, TM Forum filed its original notification pursuant to Section 6(a) of the Act. The Department of Justice published a notice in the Federal Register pursuant to Section 6(b) of the Act on December 8, 1988 (53 FR 49615).

The last notification was filed with the Department on October 30, 2020. A notice was published in the Federal Register pursuant to Section 6(b) of the Act on November 23, 2020 (85 FR 74762).

Suzanne Morris,
Chief, Premerger and Division Statistics, Antitrust Division.

[FR Doc. 2021-04968 Filed 3-9-21; 8:45 am]

BILLING CODE 4410-11-P